DEPARTMENT OF HOUSING AND URBAN DEVELOPMENT

[Docket No. FR-7077-N-01]

Privacy Act of 1974; System of Records

AGENCY: Office of Public and Indian Housing, HUD.

ACTION: Notice of a modified system of records.

SUMMARY: Under the provision of the Privacy Act of 1974, as amended (5 U.S.C. 552a), the Department of Housing and Urban Development (HUD), Office of Public and Indian Housing (PIH), Real Estate Assessment Center (REAC), is modifying system of records, The Quality Assurance/Quality Control Administrative Files of the Real Estate Assessment Center,” to name change to Physical Assessment Sub-System (PASS). The modification makes updates to the system of records name, location and system manager, authority, purpose, categories of individuals, categories of records in the system, record source categories, routine uses, policies and practices for storage, retrieval, retention and disposal, safeguards, and access, contesting and notification procedures. The updates are explained in the “Supplementary Section” of this notice. The existing scope, objectives, business processes, and uses being made of the data by the HUD remains unchanged.

DATES: Comments will be accepted on or before March 8, 2023. The SORN becomes effective immediately, while the routine uses become effective after the comment period immediately upon publication except for the routine uses, which will become effective on the date following the end of the comment period unless comments are received which result in a contrary determination.

ADDRESSES: You may submit comments, identified by docket number or by one of the following methods:

Federal e-Rulemaking Portal: https://www.regulations.gov. Follow the instructions provided on that site to submit comments electronically.

Fax: 202-619-8365.

Email: www.privacy@hud.gov.

Mail: Attention: Privacy Office; Mr. LaDonne White, Chief Privacy Officer; Office of the Executive Secretariat; 451 Seventh Street SW, Room 10139; Washington, DC 20410-0001.

Instructions: All submissions received must include the agency name and docket number for this rulemaking. All comments received will be posted without change to https://www.regulations.gov. including any personal information provided.

Docket: For access to the docket to read background documents or comments received go to https://www.regulations.gov.

FOR FURTHER INFORMATION CONTACT: LaDonne White; 451 Seventh Street SW, Room 10139; Washington, DC 20410; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION: HUD has modified system of records notice for the Physical Assessment Sub-System (PASS-R) to include these substantive changes, besides administrative updates to regulatory references along with word and format changes throughout the SORN. The modifications to SORN PASS include these changes: The Quality Assurance/Quality Control Administrative Files of the Real Estate Assessment Center” to “Physical Assessment Sub-System (PASS-R)”. The “System Location” and “System Manager(s)” sections have been updated and brings the information current. The “Authority for Maintenance of the System” is updated to reflect periodic updates to titles of listed authorities. The “Purpose(s) of the System” section described in SORN FR-4566-N-15 is updated to align the description with system functionality, this update includes more details listing the program offices supported by the system and the schedule tracking capability of the system. The “Categories of Individuals Covered by the System” includes the description in SORN FR-4456-N-15 and describes roles and function. The “Categories of Records in the System” includes the list of data elements in SORN FR-4456-N-15, updated to include the collection of personal identifiable information provided by authorized individuals who have contracted with HUD or servicing mortgages to perform inspections and servicing mortgages whose employees are certified to conduct inspections. The “Record Source Categories” includes the descriptions provided in SORN FR-4456-N-15 and clarifies that the term “subject individuals” includes inspector candidates and HUD certified inspectors. The “Routine Uses of Records Maintained in the System, Including Categories of Uses and Purpose of Such Uses” updated to include the applicable routine uses. The “Policies and Practices for Storage of Records” section which stated that “Records are stored electronically in office automation equipment and manually in file jackets” has been updated to include paper and electronic records. The “Policies and Practice for Retention and Disposal of Records” which stated the “The records are retained and disposed of in accordance with the General Records Schedule contained in the HUD Records Schedule contained in the HUD Handbook 2228.2, appendix 14, item 25” now reference the appropriate National Archives and Records Administration schedule. The “Administrative, Technical and Administrative Safeguards” has been updated to list additional safeguards now used to protect records from unauthorized access (e.g., privacy and security documents and training, encryption, smart cards, biometrics, firewalls, and intrusion detection.

SYSTEM NAME AND NUMBER:

Physical Assessment Sub-System (PASS-R), PIH-REAC 3.

SECURITY CLASSIFICATION:

Unclassified.

SYSTEM LOCATION:

Records are maintained at the Department of Housing and Urban Development Headquarters, 451 Seventh Street SW, Room 4156, Washington, DC 20410.

SYSTEM MANAGER(S):

Office of Public and Indian Housing (PIH), Ashley Sheriff, Acting Deputy Assistant Secretary, Real Estate Assessment Center, 550 12th Street SW, Suite 100, Washington, DC 20410. 202-475-7949.

AUTHORITY FOR MAINTENANCE OF THE SYSTEM:

United States Housing Act of 1937 (42 U.S.C. 1437, et seq.), and in the Cranston-Gonzalez National Affordable Housing Act (42 U.S.C. 12701, et seq.). Subpart G of 24 CFR part 5; The Debt Collection Improvement Act of 1996 (31 U.S.C. 7701(c)); 24 CFR part 902, as amended. 24 CFR 200, subpart P.

PURPOSE(S) OF THE SYSTEM:

The Physical Assessment Sub-System (PASS-R) is a functional unit of PIH-REAC that provides HUD with a variety of functions that help ensure the integrity of HUD's public housing and assisted multifamily (MF) properties. This system coordinates the procurement of Inspector candidates to conduct Uniform Physical Condition Standards (UPCS) inspections for Public Housing Agencies/Authorities (PHAs) and the Office of Multifamily Housing (MFH) assisted and insured properties. The system ensures inspection scheduling for both PHA and MFH properties and arranges for correction and rescheduling of inspections deemed incomplete or deficient. This system also enables quality control checks of each uploaded inspection and provides property specific on-line reporting of the inspection results in Secure Systems and this system facilitates responses to technical review and database adjustment requests from PHAs and MFH owners and agents.

CATEGORIES OF INDIVIDUALS COVERED BY THE SYSTEM:

Inspectors authorized to participate in the process for inspecting HUD and federally assisted properties.

CATEGORIES OF RECORD IN THE SYSTEM:

Full name, inspector identification number, height, weight, birth year, hair color, eye color, gender, home address, city, state, email address, telephone numbers (home, work, cell), fax number, and photo.

RECORD SOURCE CATEGORIES:

Individual.

ROUTINE USES OF RECORDS MAINTAINED IN THE SYSTEM, INCLUDING CATEGORIES OF USERS AND PURPOSES OF SUCH USES:

(1) To appropriate agencies, entities, and persons when (1) the HUD suspects or has confirmed that there has been a breach of the system of records, (2) the HUD has determined that as a result of the suspected or confirmed breach there is a risk of harm to individuals, HUD (including its information systems, programs, and operations), the Federal Government, or national security; and (3) the disclosure made to such agencies, entities, and persons is reasonably necessary to assist in connection with HUD's efforts to respond to the suspected or confirmed breach or to prevent, minimize, or remedy such harm.

(2) To another Federal agency or Federal entity, when the HUD determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(3) To contractors, grantees, experts, consultants and their agents, or others performing or working under a contract, service, grant, cooperative agreement, or other agreement with HUD, when necessary to accomplish an agency function related to a system of records. Disclosure requirements are limited to only those data elements considered relevant to accomplishing an agency function.

(4) To a court, magistrate, administrative tribunal, or arbitrator in the course of presenting evidence, including disclosures to opposing counsel or witnesses in the course of civil discovery, litigation, mediation, or settlement negotiations, or in connection with criminal law proceedings; when HUD determines that use of such records is relevant and necessary to the litigation and when any of the following is a party to the litigation or have an interest in such litigation: (1) HUD, or any component thereof; or (2) any HUD employee in his or her official capacity; or (3) any HUD employee in his or her individual capacity where HUD has agreed to represent the employee; or (4) the United States, or any agency thereof, where HUD determines that litigation is likely to affect HUD or any of its components.

(5) To any component of the Department of Justice or other Federal agency conducting litigation or in proceedings before any court, adjudicative, or administrative body, when HUD determines that the use of such records is relevant and necessary to the litigation and when any of the following is a party to the litigation or have an interest in such litigation: (1) HUD, or any component thereof; or (2) any HUD employee in his or her official capacity; or (3) any HUD employee in his or her individual capacity where the Department of Justice or agency conducting the litigation has agreed to represent the employee; or (4) the United States, or any agency thereof, where HUD determines that litigation is likely to affect HUD or any of its components.

POLICIES AND PRACTICES FOR STORAGE OF RECORDS:

Electronic and paper records.

POLICIES AND PRACTICES FOR RETRIEVAL OF RECORDS:

Records are retrieved by inspector name and inspector's identification number.

POLICIES AND PRACTICIES FOR RETENTION AND DISPOSAL OF RECORDS:

Temporary. Destroy upon verification of successful creation of the final document or file, or when no longer needed for business use, whichever is later.

ADMINISTRATIVE, TECHNICAL, AND PHYSICAL SAFEGUARDS:

Administrative Safeguards: When first gaining access to PASS-R and annually, all users must agree to the systems “Rules of Behavior” which specify handling of personal information and any physical records.

Technical Safeguards: Controls for the system include, but are not limited to, user identification, password protection, firewalls, virtual private network, encryption, intrusion detection system, common access cards, smart cards, biometrics, and public key infrastructure. Unauthorized access is controlled by the application-level security.

Physical Safeguards: Controls to secure the data and protect paper and electronic records, buildings, and related infrastructure against threats associated with their physical environment include, but are not limited to, using the HUD Employee ID and/or badge number and key cards, security guards, cipher locks, biometrics, and closed-circuit TV. Paper records are secured in locked file cabinets, offices, and facilities. Electronic media are kept on secure servers or computer systems. Records are stored in a dedicated file room or in locking file cabinets in file folders. During normal business hours, assigned agency personnel, including Records Management staff and on-site contractor personnel, regulate availability of the files. During evening and weekend hours the offices are locked.

RECORD ACCESS PROCEDURES:

Individuals seeking notification of and access to their records in this system of records may submit a request in writing to the Department of Housing and Urban Development, Attn: FOIA Program Office, 451 7th Street SW, Suite 10139, Washington, DC 20410-0001. or by emailing foia@hud.gov. Individuals must furnish the following information for their records to be located:

1. Full name.

2. Signature.

3. The reason why the individual believes this system contains information about him/her.

4. The address to which the information should be sent.

CONTESTING RECORD PROCEDURES:

Same as the Notification Procedures above.

NOTIFICATION PROCEDURES:

Any person wanting to know whether this system of records contains information about him or her should contact the System Manager. Such person should provide his or her full name, position title and office location at the time the accommodation was requested, and a mailing address to which a response is to be sent.

EXEMPTIONS PROMULGATED FOR THE SYSTEM:

None.

HISTORY:

Docket No. FR-4456-N-15, FR 28193, May 22, 2001.

LaDonne White,
Chief Privacy Officer, Office of Administration.

[FR Doc. 2023-02454 Filed 2-3-23; 8:45 am]

BILLING CODE 4210-67-P